ENVIRONMENTAL PROTECTION AGENCY

[ER-FRL-6667-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 1, 2005 (70 FR 16815).

Draft EISs

EIS No. 20050187, ERP No. D-SFW-F64005-00, Upper Mississippi National Wildlife and Fish Refuge Comprehensive Conservation Plan (CCP) Implementation, MN, WI, IL and IA.

Summary: EPA has no objections to the Preferred Alternative, and recommends that the Final EIS address how the plan will be integrated with the Upper Mississippi River Navigation Ecosystem Sustainability Program. Rating LO.

EIS No. 20050209, ERP No. D-NPS-J65442-WY, Grand Teton National Park Transportation Plan, Implementation, Grand Teton National Park, Teton County, WY.

Summart: EPA expressed concerns about wetland mitigation and storm water impacts. Rating EC2.

EIS No. 20050259, ERP No. D-FHW-C40166-NY, Southtowns Connector/Buffalo Outer Harbor Project, Improvements on the NYS Route 5 Corridor from Buffalo Skyway Bridge to NYS Route 179, in the City of Buffalo, City of Lackawanna and Town of Hamburg, Erie County, NY.

Summary: EPA expressed concerns about assessment of cumulative impacts. Rating EC2.

EIS No. 20050274, ERP No. D-AFS-J61107-ND, NE McKenzie Allotment Management Plan Revisions, Proposes to Continue Livestock Grazing on 28 Allotments, Dakota Prairie Grasslands Land and Resource Management Plan, Dakota Prairie Grasslands, McKenzie Ranger District, McKenzie County, ND.

Summary: EPA expressed concerns about potential water quality impacts from sediment, fecal coliform and temperature modification in streams and other surface waters, and recommended reducing water quality impacts near aquatic/riparian resources by working with permittees and other stakeholders, and develop adaptive management monitoring. Rating EC2.

EIS No. 20050281, ERP No. D-AFS-K65287-CA, North Fork Eel Grazing Allotment Management Project, Proposing to Authorize Cattle Grazing on Four Allotment, Six Rivers National Forest, Mad River Ranger District, North Fork Eel River and Upper Mad River, Trinity County, CA.

Summary: EPA has no objection to the proposed action. Rating LO.

EIS No. 20050306, ERP No. D-FHW-H40185-00, U.S. Highway 34, Plattsmouth Bridge Study, over the Missouri River between U.S. 75 and I-29, Funding, Coast Guard Permit, U.S. Army COE 10 and 404 Permits, Cass County, NE and Mills County, IA.

Summary: EPA expressed concerns about potential wetland, floodplain, stream, and cumulative impacts. Rating EC2.

EIS No. 20050311, ERP No. D-NPS-H65025-NE, Niobrara National Scenic River General Management Plan, Implementation, Brown, Cherry, Keya Paha and Rock Counties, NE.

Summary: EPA has no objection to the proposed action. Rating LO.

EIS No. 20050294, ERP No. DR-COE-K11114-CA, Mare Island Reuse of Dredged Material Disposal Ponds as a Confirmed Updated Dredged Material Disposal Facility, Issuing Section 404 Permit Clean Water Act and Section 10 Permit Rivers and Harbor Act, San Francisco Bay Area, City of Vallejo, Solando County, CA.

Summary: Many of EPA's objections to the original Draft EIS were addressed in this revised document. However, EPA continues to have concerns about the delegation of responsibility for site operations and associated environmental safeguards, as well as implementation of wetlands restoration measures. Rating EC2.FINAL EISs.

EIS No. 20050283, ERP No. F-AFS-K65269-NV, Martin Basin Rangeland Project, Authorize Continued Livestock Grazing in Eight Allotments: Martin Basin, Indian, West Side Flat Creek, Buffalo, Bradshaw, Buttermilk, Granite Peak and Rebel Creek Cattle and Horse Allotments, Humboldt-Toiyabe National Forest, Santa Rosa Ranger District, Humboldt County, NV.

Summary: EPA has continuing concerns due to further resource decline and recommended an aggressive implementation schedule to reduce utilization rates in critical areas, and the use of tiered environmental documentation for specific Allotment Management Plans.

EIS No. 20050286, ERP No. F-SFW-B64004-ME, Maine Coastal Islands National Wildlife Refuge (formerly Petit Manan National Wildlife Refuge Complex) Comprehensive Conservation Plan, Implementation, the Gulf of Maine.

Summary: EPA continues to have no objection to the proposed action.

EIS No. 20050316, ERP No. F-FAA-F51050-IL, O'Hare Modernization Program, Proposes Major Development, Chicago O'Hare International Airport, Airport Layout Plan (ALP), Federal Funding, U.S. Army COE Section 404 Permit, City of Chicago, IL.

Summary: While many EPA's previous concerns have been resolved, EPA still has concerns because it is not clear that proposed mitigation for noise, air quality and water will be adopted and included in the Record of Decision.

EIS No. 20050322, ERP No. F-FRC-L03012-WA, Capacity Replacement Project, Construction and Operation of 79.5 miles Pipeline: Modify 5 Existing Compressor Stations, U.S. Army COE 10 and 404 Permits, Whatcom, Skagit, Snohomish, King, Pierce and Thurston Counties, WA.

Summary: As requested, FERC provided additional information on the proposed compensatory mitigation plan and other critical elements in the final EIS. Accordingly, EPA had no objections to the proposed action.

EIS No. 20050327, ERP No. F-AFS-J65434-CO, County Line Vegetation Management Project, Salvaging Spruce Beetle Infected Trees and Thinning Spruce-Fir Stand, Rio Grande National Forest, Conejos Peak Ranger District, Conejos County, CO.

Summary: EPA continues to have concerns about soil erosion impacts, stream water quality impacts, and wildlife sensitive species impacts.

EIS No. 20050330, ERP No. F-AFS-H65023-00, Black-Tailed Prairie Dog Conservation and Management on the Nebraska National Forest and Associated Units, Implementation, Dawes, Sioux Blaine, Cherry, Thomas Counties, NE and Custer, Fall River, Jackson, Pennington, Jones, Lyman, Stanley Counties, SD.

Summary: No formal comment letter was sent to the preparing agency.

EIS No. 20050331, ERP No. F-COE-G39042-TX, PROGRAMMATIC—Lower Colorado River Basin Study, Provide Flood Damage Reduction and Ecosystem Restoration, Colorado River, TX.

Summary: No formal comment letter was sent to the preparing agency.

EIS No. 20050337, ERP No. F-AFS-K65283-CA, Empire Vegetation Management Project, Reducing Fire Hazards, Harvesting of Trees Using Group-Selection (GS) and Individual Trees Selection (ITS) Methods, Mt. Hough Ranger District, Plumas National Forest, Plumas County, CA.

Summary: While EPA has no objection to the proposed action, EPA did request that the ROD include a commitment to mitigate impacts to air quality and implement resource monitoring/adaptive management.

Robert W. Hargrove,
Director, NEPA Compliance Division, Office of Federal Activities.

[FR Doc. 05-19047 Filed 9-22-05; 8:45 am]

BILLING CODE 6560-50-P